FEDERAL RETIREMENT THRIFT INVESTMENT

Sunshine Act Meetings

TIME AND DATE: July 2, 2019, 10:00 a.m.

PLACE: Telephonic.

STATUS: All parts of this meeting will be closed.

Closed Session

Information covered under 5 U.S.C. 552b(c)(6).

CONTACT PERSON FOR MORE INFORMATION: Kimberly Weaver, Director, Office of External Affairs, (202) 942-1640.

Dated: July 1, 2019.
Megan Grumbine,
General Counsel, Federal Retirement Thrift Investment Board.

[FR Doc. 2019-14385 Filed 7-1-19; 4:15 pm]

BILLING CODE 6760-01-P